DEPARTMENT OF COMMERCE

National Oceanic and Atmospheric Administration

50 CFR Part 300

[Docket No. 04020949-4049-01 ; I.D. 012204B]

RIN 0648-AR83

Pacific Halibut Fisheries; Catch Sharing Plan

AGENCY: National Marine Fisheries Service (NMFS), National Oceanic and Atmospheric Administration (NOAA), Commerce.

ACTION: Proposed rule; proposed changes to the Catch Sharing Plan and to domestic Area 2A halibut management measures.

SUMMARY: NMFS proposes, under authority of the Northern Pacific Halibut Act (Halibut Act), to approve and implement changes to the Area 2A Pacific Halibut Catch Sharing Plan (Plan) to: provide more flexibility for Washington inseason sport fishery management; revise the public announcement process for the Puget Sound sport fishery (Washington's inside waters subarea); revise season dates for the Washington North Coast and South Coast sport fisheries; combine the Oregon North Central and South Central subareas; revise the “additional fishing days” season structure for Oregon's spring and summer sport fisheries; extend the season closing date for Oregon/California sport fisheries in the South of Humbug Mountain subarea; and change the depth restriction for Oregon's nearshore sport fishery. NMFS also proposes to approve and implement changes to the annual domestic management measures to revise the closed area to non-treaty commercial halibut fishing in Area 2A. NMFS is proposing measures to implement the portions of the Area 2A Catch Sharing Plan that are not implemented through the International Pacific Halibut Commission (IPHC). These actions are intended to enhance the conservation of Pacific halibut and to protect yelloweye rockfish, and overfished groundfish species, from incidental catch in the halibut fisheries.

DATES: Comments on the proposed changes to the Plan and on the proposed domestic Area 2A halibut management measures must be received no later than 5 p.m., local time on March 9, 2004.

ADDRESSES: Send written comments or requests for a copy of the Plan and/or the Regulatory Impact Review (RIR)/Initial Regulatory Flexibility Analysis (IRFA) to D. Robert Lohn, Regional Administrator, Northwest Region, NMFS, 7600 Sand Point Way NE, Seattle, WA 98115-0070; or fax to 206-526-6736, care of Jamie Goen; or email PHalibut2004.nwr@noaa.gov. Comments sent via email, including all attachments, must not exceed a 10 megabyte file size. Electronic copies of the Plan, including proposed changes for 2004, and of the draft RIR/IRFA are also available at the NMFS Northwest Region Web site: http://www.nwr.noaa.gov, click on “Pacific Halibut.”

FOR FURTHER INFORMATION CONTACT: Jamie Goen or Yvonne deReynier (Northwest Region, NMFS), phone: 206-526-6140; fax: 206-526-6736 and; e-mail: jamie.goen@noaa.gov or yvonne.dereynier@noaa.gov.

SUPPLEMENTARY INFORMATION: The Halibut Act of 1982, at 16 U.S.C. 773c, gives the Secretary of Commerce (Secretary) general responsibility for implementing the provisions of the Halibut Convention between the United States and Canada. It requires the Secretary to adopt such regulations as may be necessary to carry out the purposes and objectives of the Convention and the Halibut Act. Section 773c(c) of the Halibut Act authorizes the Regional Fishery Management Councils to develop regulations governing the Pacific halibut catch in their corresponding U.S. Convention waters that are in addition to, but not in conflict with, regulations of the IPHC. Each year between 1988 and 1995, the Pacific Fishery Management Council (Pacific Council) developed a catch sharing plan in accordance with the Halibut Act to allocate the total allowable catch (TAC) of Pacific halibut between treaty Indian and non-treaty harvesters and among non-treaty commercial and sport fisheries in IPHC regulatory Area 2A (off Washington, Oregon, and California).

In 1995, NMFS implemented the Pacific Council-recommended long-term Plan (60 FR 14651, March 20, 1995). In each of the intervening years between 1995 and the present, minor revisions to the Plan have been made to adjust for the changing needs of the fisheries. The Plan allocates 35 percent of the Area 2A TAC to Washington treaty Indian tribes in Subarea 2A-1 and 65 percent to non-Indian fisheries in Area 2A. The allocation to non-Indian fisheries is divided into three shares, with the Washington sport fishery (north of the Columbia River) receiving 36.6 percent, the Oregon/California sport fishery receiving 31.7 percent, and the commercial fishery receiving 31.7 percent. The commercial fishery is further divided into a directed commercial fishery that is allocated 85 percent of the commercial allocation and an incidental catch in the salmon troll fishery that is allocated 15 percent of the commercial allocation. The directed commercial fishery in Area 2A is confined to southern Washington (south of 46°53'18” N. lat.), Oregon, and California. North of 46°53'18” N lat. (Pt. Chehalis), the Plan allows for incidental halibut retention in the primary limited entry longline sablefish fishery when the overall Area 2A TAC is above 900,000 lb (408.2 mt). The Plan also divides the sport fisheries into seven geographic subareas, each with separate allocations, seasons, and bag limits.

Pacific Council Recommended Changes to the Plan and Domestic Fishing Regulations

Each year, the states (Washington Department of Fish and Wildlife (WDFW) and Oregon Department of Fish and Wildlife (ODFW)) and tribes consider whether changes to the Plan are needed or desired by their fishery participants. Fishery managers from the states and tribes hold public meetings before both the September and November Pacific Council meetings to get public input on revisions to the Plan. At the September 2003 Pacific Council meeting, the states recommended several changes to the Plan and the tribes announced that they had no proposal for revising the Plan in 2004. Following the September 2003 Pacific Council meeting, the states again reviewed their proposals with the public and drafted their recommended revisions for review by the Pacific Council.

At its November 3-7, 2003, meeting in Del Mar, CA, the Pacific Council considered the results of state-sponsored workshops on the proposed changes to the Plan and public comments, and made the final recommendations for modifications to the Plan as follows:

(1) Remove the requirement to “sponsor a public workshop shortly after the IPHC annual meeting” to develop the season structure for the Puget Sound recreational fishery.

(2) Change the opening date of the Washington North Coast subarea fishery from May 1 to the first Tuesday between May 9 and May 15.

(3) Change the opening date of the Washington North Coast area June fishery from the third Wednesday in June to “during the third week of June.”

(4) Add a statement to the Washington north coast, Washington south coast, and Columbia River subareas that, subsequent to a closure prior to September 30, if there is insufficient quota remaining to reopen that given subarea for another fishing day, then any remaining quota may be transferred inseason to another Washington coastal subarea by NMFS via an update to the recreational halibut hotline. In the case of the Columbia River subarea, the transfer would be to another Washington and/or Oregon subarea based on preseason shares of the subarea allocation.

(5) Switch from a 5-day/week fishery to a 7-day/week fishery beginning July 1 for the Washington South Coast subarea.

(6) Combine the Oregon North Central and South Central Coast subareas.

(7) Open the spring Cape Falcon, OR to Humbug Mountain, OR all-depth recreational fishery Thursday through Saturday beginning the second Thursday in May (if the season is 5 or more fishing days) or the second Friday in May (if the season is 4 or fewer fishing days), with exceptions to avoid adverse tidal conditions. Allow any remaining quota from the spring Cape Falcon, OR to Humbug Mountain, OR all-depth recreational fishery to be used by opening every other Friday and Saturday, but allow some weeks to be closed to avoid adverse tidal conditions.

(8) Open the summer Cape Falcon, OR and Humbug Mountain, OR all-depth recreational fishery on every other Friday and Saturday beginning with the first Friday in August, but allow some weeks to be closed to avoid adverse tidal conditions. Allow unused quota to be transferred to Oregon's nearshore fishery.

(9) Change the depth restriction in the Cape Falcon, OR to Humbug Mountain, OR nearshore recreational fishery from 30 fathoms to 40 fathoms for consistency with the 2004 recreational groundfish fishery regulations.

(10) Prohibit possession of Pacific halibut taken in the Cape Falcon, OR to Humbug Mountain, OR nearshore recreational fishery in other areas.

(11) Extend the closing date for the South of Humbug Mountain, OR recreational fishery from September 30 to October 31.

Proposed Changes to the Plan

NMFS is proposing to approve and to make the following changes to the Plan:

In section (f) of the Plan, Sport Fisheries, revise the second to last sentence of paragraph (1)(i) to read from the second to last sentence as follows:

The WDFW will develop recommendations to NMFS on the opening date and weekly structure of the fishery each year. The daily bag limit is one fish per person, with no size limit.

In section (f) of the Plan, Sport Fisheries, revise the fifth through eighth sentences of paragraph (1)(ii) to read as follows:

The fishery will open on the first Tuesday between May 9 and 15, and continue 5 days per week (Tuesday through Saturday) until the May allocation is projected to be taken. The fishery will then reopen during the third week in June and continue until the remaining quota is projected to be taken, 5 days per week (Tuesday through Saturday.) No sport fishing for halibut is allowed after September 30. If the fishery is closed prior to September 30, and there is insufficient quota remaining to reopen this subarea for another fishing day, then any remaining quota may be transferred inseason to another Washington coastal subarea by NMFS via an update to the recreational halibut hotline.

In section (f) of the Plan, Sport Fisheries, revise paragraph (1)(iii) from the fifth sentence to the end of the paragraph to read as follows:

The fishery will be open Sunday through Thursday in all areas, except where prohibited, and the fishery will be open 7 days per week in the area from Queets River, WA south to 47°00'00” N. lat. and east of 124°40'00” W. long. Beginning July 1, the halibut fishery will be open 7 days per week. The fishery will continue until September 30, or until the quota is achieved, whichever occurs first. Subsequent to this closure, if there is insufficient quota remaining to reopen this subarea for another fishing day, then any remaining quota may be transferred inseason to another Washington coastal subarea by NMFS via an update to the recreational halibut hotline. The daily bag limit is one halibut per person, with no size limit.

In section (f) of the Plan, Sport Fisheries, insert two sentences after the fourth sentence in paragraph (1)(iv) to read as follows:

Subsequent to this closure, if there is insufficient quota remaining in the Columbia River subarea for another fishing day, then any remaining quota may be transferred inseason to another Washington and/or Oregon subarea by NMFS via an update to the recreational halibut hotline. The Washington proportion as set preseason would be transferred to another Washington subarea, and the Oregon proportion as set preseason would be transferred to another Oregon subarea.

In section (f) of the Plan, Sport Fisheries, paragraph (1)(v) is revised to read as follows:

(v) Oregon Central Coast Subarea.

This subarea extends from Cape Falcon, OR (45°46'00” N. lat.) to Humbug Mountain, OR (42°40'30” N. lat.) and is allocated 95.0 percent of the Oregon/California sport allocation. The structuring objectives for this subarea are to provide two periods of fishing opportunity in spring and in summer in productive deeper water areas along the coast, principally for charterboat and larger private boat anglers, and provide a period of fishing opportunity in the summer for nearshore waters for small boat anglers. Fixed season dates will be established preseason for the spring opening and will not be modified inseason except that the spring opening may be modified inseason if the combined Oregon all-depth spring and summer season total quotas are estimated to be achieved. Recent year catch rates will be used as a guideline for estimating the catch rate for the spring fishery each year. The number of fixed season days established will be based on the projected catch per day with the intent of not exceeding the subarea season quota. ODFW will monitor landings and provide a post-season estimate of catch within 1 week of the end of the fixed season. If sufficient catch remains for an additional day of fishing after the spring season, openings will be provided if possible in May - July. Potential open dates for both the spring (May - July) and summer (August - October) seasons will be announced preseason. If a decision is made inseason to allow fishing on one or more additional days, notice of the opening will be announced on the NMFS hotline (206) 526-6667 or (800) 662-9825. No all-depth halibut fishing will be allowed on the additional dates unless the opening date has been announced on the NMFS hotline. Any poundage remaining unharvested in the spring all-depth subquota will be added to the summer all-depth sub-quota. Any poundage that is not needed to extend the inside 40-fathom (73-m) fishery through to October 31 will be added to the summer all-depth season if it can be used, and any poundage remaining unharvested from the summer all-depth fishery will be added to the inside 40-fathom fishery subquota. The daily bag limit for all seasons is the first halibut taken, per person, of 32 inches (81.3 cm) or greater in length. ODFW will sponsor a public workshop shortly after the IPHC annual meeting to develop recommendations to NMFS on the open dates for each season each year. The three seasons for this subarea are as follows.

A. The first season opens on May 1, only in waters inside the 40-fathom (73-m) curve, and continues daily until the subquota (8 percent of the subarea quota) is taken, or until October 31, whichever is earlier. Poundage that is estimated to be above the amount needed to keep this season open through October 31 will be transferred to the summer all-depth fishery if it can be used. Any overage in the all-depth fisheries would not affect achievement of allocation set aside for the inside 40-fathom curve fishery.

B. The second season is an all-depth fishery with two potential openings. The first opening begins on the second Thursday in May (if the season is 5 or more fishing days) or the second Friday in May (if the season is 4 or fewer fishing days) and is allocated 69 percent of the subarea quota. Fixed season dates for the first opening will be established preseason based on projected catch per day and number of days to achievement of the subquota for this season. The first opening will be structured for 2 days per week (Friday and Saturday) if the season is for 4 or fewer fishing days. The fishery will be structured for 3 days per week (Thursday through Saturday) if the season is for 5 or more fishing days. The fixed season dates will be established preseason and will occur in consecutive weeks starting the second Thursday in May (if the season is 5 or more fishing days) or second Friday in May (if the season is 4 or fewer fishing days), with exceptions to avoid adverse tidal conditions. If, following the “fixed” dates, quota for this season remains unharvested, a second opening will be held. The fishery will be open every other week on Friday and Saturday except that week(s) could be skipped to avoid adverse tidal conditions. The potential open Fridays and Saturdays will be identified preseason. The fishery will continue until there is insufficient quota for an additional day of fishing or July 31, whichever occurs first. Any remaining quota will be added to the summer quota. No inseason adjustments will be made to the established fixed season unless the combined Oregon all-depth spring and summer season total subquotas are estimated to be achieved.

C. The last season is an all-depth fishery that begins on the first Friday in August and is allocated 23 percent of the subarea quota. The fishery will be structured to be open every other week on Friday and Saturday except that week(s) could be skipped to avoid adverse tidal conditions. The potential open Fridays and Saturdays will be identified preseason. The fishery will continue until there is insufficient quota for an additional day of fishing or October 31, whichever occurs first. Any remaining quota will be transferred to the fishery inside the 40-fathom (73-m) curve.

In section (f) of the Plan, Sport Fisheries, paragraph (1)(vi)is deleted and paragraph (1)(vii) is redesignated as paragraph (1)(vi) and the third sentence is revised to read as follows:

(vi) South of Humbug Mountain Subarea.

The structuring objective for this subarea is to provide anglers the opportunity to fish in a continuous, fixed season that is open from May 1 through October 31.

In section (f) of the Plan, Sport Fisheries, revise the first sentence of paragraph (5)(iii)(B) to read as follows:

B. Actual notice of inseason management actions will be provided by a telephone hotline administered by the Northwest Region, NMFS, at 206-526-6667 or 800-662-9825 (May through October) and by U.S. Coast Guard broadcasts.

Proposed 2004 Sport Fishery Management Measures

NMFS is proposing sport fishery management measures that are necessary to implement the Plan in 2004. The 2004 TAC for Area 2A will be determined by the IPHC at its annual meeting on January 20-23, 2004, in Juneau, Alaska. Because the 2004 TAC has not yet been determined, these proposed sport fishery management measures use the IPHC's preliminary 2004 Area 2A TAC recommendation of 1,300,000 lb (590 mt), which is slightly lower than the 2003 TAC of 1,310,000 lb (594 mt). The proposed 2004 sport fishery regulations based on the preliminary 2004 Area 2A TAC of 1,300,000 lb (590 mt) are as follows:

Washington Inside Waters (Subarea Puget Sound and Straits)

This subarea would be allocated 62,517 lb (28 mt) at an Area 2A TAC of 1,300,000 lb (590 mt) in accordance with the Plan. According to the Plan, the structuring objective for this subarea is to provide a stable sport fishing opportunity and to maximize the season length. In 2003, the fishery in this subarea was 52 days long, from May 8 through July 18 in the Eastern region and May 22 through August 1 in the Western Region, held for 5 days per week (Thursday through Monday). For the 2004 fishing season, the fishery in this subarea would be set to meet the structuring objectives described in the Plan. The final determination of the season dates would be based on the allowable harvest level and projected 2004 catch rates after the 2004 TAC is set by the IPHC. Beginning in 2004, WDFW will no longer hold a public workshop after the IPHC determines the 2004 TAC, but will continue to seek public comment through mail and email lists. The daily bag limit would be one halibut of any size per day, per person.

Washington North Coast Subarea (North of the Queets River, WA)

This subarea would be allocated 113,154 lb (51 mt) at an Area 2A TAC of 1,300,000 lb (590 mt) in accordance with the Plan. According to the Plan, the management objective for this subarea is to provide a quality recreational fishing opportunity during May and the latter part of June. Previously, the fishery opened on May 1. Beginning in 2004, the fishery opens on the first Tuesday between May 9 and May 15 (May 11 in 2004), and continues 5 days per week (Tuesday through Saturday) until 72 percent of the quota for the subarea has been taken, 81,471 lb (37 mt). Previously, the fishery re-opened on the third Wednesday in June. For 2004, the fishery will re-open during the third week in June and continue until the remaining quota for the subarea is taken, 31,683 lb (14 mt). Also new for 2004, language will be added to the Plan to allow for any remaining quota after the fishery is closed in this subarea to be transferred inseason to another Washington coastal subarea via an update to the halibut hotline. This transfer in quota could only occur before September 30 and if there were insufficient quota remaining to open the Washington North Coast subarea for another fishing day. The daily bag limit would be one halibut of any size per day per person. A portion of this subarea would be closed to sport fishing for halibut as a yelloweye rockfish conservation area bounded by the following coordinates:

48°18' N. lat.; 125°18' W. long.;

48°18' N. lat.; 124°59' W. long.;

48°11' N. lat.; 124°59' W. long.;

48°11' N. lat.; 125°11' W. long.;

48°04' N. lat.; 125°11' W. long.;

48°04' N. lat.; 124°59' W. long.;

48°00' N. lat.; 124°59' W. long.;

48°00' N. lat.; 125°18' W. long.;

and connecting back to 48°18' N. lat.; 125°18' W. long.

Washington South Coast Subarea

This subarea would be allocated 47,862 lb (22 mt) at an Area 2A TAC of 1,300,000 lb (590 mt) in accordance with the Plan. The fishery would open on May 1 and continue 5 days per week (Sunday through Thursday) until September 30, or until the quota is achieved, whichever occurs first. According to the Plan, the structuring objective for this subarea is to maximize the season length, while maintaining a quality fishing experience. The fishery would be open Sunday through Thursday in all areas, except where prohibited, and the fishery will be open 7 days per week in the area from the Queets River, WA south to 47°00'00” N lat. and east of 124°40'00” W long. Previously, if the fishery had closed prior to September 30 and there was insufficient quota remaining for an offshore fishery, the nearshore fishery, the area from the Queets River, WA south to 47°00'00” N lat. and east of 124°40'00” W long., would re-open 7 days per week until either the remaining subarea quota is estimated to have been taken and the season is closed by the IPHC, or until September 30, whichever occurs first. For 2004, this language is removed and beginning July 1, the halibut fishery opens 7 days per week in the offshore and nearshore fisheries until September 30, or until the quota is achieved, whichever occurs first. Also new for 2004, language will be added to the Plan to allow for any remaining quota after the fishery is closed in this subarea to be transferred inseason to another Washington coastal subarea via an update to the halibut hotline. This transfer in quota could only occur before September 30 and if there were insufficient quota remaining to open the Washington South Coast subarea for another fishing day. The daily bag limit would be one halibut of any size per day, per person.

Columbia River Subarea

This subarea would be allocated 11,787 lb (5 mt) at an Area 2A TAC of 1,300,000 lb (590 mt) in accordance with the Plan. The fishery would open on May 1 and continue 7 days per week until the quota is reached or September 30, whichever occurs first. New for 2004, language will be added to the Plan to allow for any remaining quota after the fishery is closed in this subarea to be transferred inseason to another subarea. Another Washington subarea would get that proportion of the remaining Columbia River quota based on the proportions set preseason for Washington and another Oregon subarea would get that proportion of the remaining Columbia River quota based on the proportions set preseason for Oregon. This transfer of subarea quota would occur via an update to the halibut hotline and could only occur before September 30 and if there were insufficient quota remaining to open the Columbia River subarea for another fishing day. The daily bag limit would be the first halibut taken, per person, of 32 inches (81.3 cm) or greater in length.

Oregon Central Coast Subarea

The Oregon North Central and South Central Coast subareas are combined in 2004 into the Oregon Central Coast subarea. The Oregon Central Coast subarea would extend from Cape Falcon, OR south to Humbug Mountain, OR. This subarea would be allocated 246,943 lb (112 mt) at an Area 2A TAC of 1,300,000 lb (590 mt) in accordance with the Plan. The structuring objectives for this subarea are to provide two periods of fishing opportunity in spring (May-June) and in summer (August-October) in productive deeper water areas along the coast, principally for charterboat and larger private boat anglers, and to provide a period of fishing opportunity during the summer in nearshore waters for small boat anglers.

The central coast restricted depth fishery, which is moving from inside 30 fathoms to inside 40 fathoms for 2004, would be allocated 19,755 lb (9 mt), starting May 1 through October 31 or until the allocated subquota is attained, whichever occurs first. New for 2004, the “inside 40 fathoms” boundary will not follow the depth contour but will be straight lines between a series of latitude and longitude coordinates which approximate the depth contour. Proposed coordinates for the 40-fm (73-m) depth contour between 45°46'00” N. lat. and 42°40'30” N. lat. is defined by straight lines connecting all of the following points in the order stated:

(1)45°47.07'N. lat., 124°04.21'N. lat.;

(2)45°44.34'N. lat., 124°05.09'N. lat.;

(3)45°40.64'N. lat., 124°04.90'N. lat.;

(4)45°33.00'N. lat., 124°04.46'N. lat.;

(5)45°32.27'N. lat., 124°04.74'N. lat.;

(6)45°29.26'N. lat., 124°04.22'N. lat.;

(7)45°19.99'N. lat., 124°04.62'N. lat.;

(8)45°17.50'N. lat., 124°04.91'N. lat.;

(9)45°11.29'N. lat., 124°05.19'N. lat.;

(10)45°05.79'N. lat., 124°05.40'N. lat.;

(11)45°05.07'N. lat., 124°05.93'N. lat.;

(12)45°01.70'N. lat., 124°06.53'N. lat.;

(13)44°58.75'N. lat., 124°07.14'N. lat.;

(14)44°51.28'N. lat., 124°10.21'N. lat.;

(15)44°49.49'N. lat., 124°10.89'N. lat.;

(16)44°44.96'N. lat., 124°14.39'N. lat.;

(17)44°43.44'N. lat., 124°14.78'N. lat.;

(18)44°42.27'N. lat., 124°13.81'N. lat.;

(19)44°41.68'N. lat., 124°15.38'N. lat.;

(20)44°34.87'N. lat., 124°15.80'N. lat.;

(21)44°33.74'N. lat., 124°14.43'N. lat.;

(22)44°27.66'N. lat., 124°16.99'N. lat.;

(23)44°19.13'N. lat., 124°19.22'N. lat.;

(24)44°15.35'N. lat., 124°17.37'N. lat.;

(25)44°14.38'N. lat., 124°17.78'N. lat.;

(26)44°12.80'N. lat., 124°17.18'N. lat.;

(27)44°09.23'N. lat., 124°15.96'N. lat.;

(28)44°08.38'N. lat., 124°16.80'N. lat.;

(29)44°01.18'N. lat., 124°15.42'N. lat.;

(30)43°51.60'N. lat., 124°14.68'N. lat.;

(31)43°42.66'N. lat., 124°15.46'N. lat.;

(32)43°40.49'N. lat., 124°15.74'N. lat.;

(33)43°38.77'N. lat., 124°15.64'N. lat.;

(34)43°34.52'N. lat., 124°16.73'N. lat.;

(35)43°28.82'N. lat., 124°19.52'N. lat.;

(36)43°23.91'N. lat., 124°24.28'N. lat.;

(37)43°17.96'N. lat., 124°28.81'N. lat.;

(38)43°16.75'N. lat., 124°28.42'N. lat.;

(39)43°13.98'N. lat., 124°31.99'N. lat.;

(40)43°13.71'N. lat., 124°33.25'N. lat.;

(41)43°12.26'N. lat., 124°34.16'N. lat.;

(42)43°10.96'N. lat., 124°32.34'N. lat.;

(43)43°05.65'N. lat., 124°31.52'N. lat.;

(44)42°59.66'N. lat., 124°32.58'N. lat.;

(45)42°54.97'N. lat., 124°36.99'N. lat.;

(46)42°53.81'N. lat., 124°38.58'N. lat.;

(47)42°49.14'N. lat., 124°39.92'N. lat.;

(48)42°46.47'N. lat., 124°38.65'N. lat.;

(49)42°45.60'N. lat., 124°39.04'N. lat.;

(50)42°44.79'N. lat., 124°37.96'N. lat.;

(51)42°45.00'N. lat., 124°36.39'N. lat.;

(52)42°44.14'N. lat., 124°35.16'N. lat.;

(53)42°42.15'N. lat., 124°32.82'N. lat.; and

(54)42°38.82'N. lat., 124°31.09'N. lat.;

If NMFS changes this boundary for recreational groundfish fishing by an inseason action to the Pacific Coast groundfish regulations during the year to protect overfished groundfish species, NMFS will also take a separate inseason action published in the Federal Register to change nearshore recreational halibut regulations for this subarea to mirror the groundfish closure. Language will also be added to the sport management measures for 2004 such that, in times when the all-depth halibut fishery is closed and halibut fishing is permitted only inshore of the 40-fm (73-m) depth contour, halibut possession and retention by vessels operating offshore of 40 fm would be prohibited.

The spring all-depth season would be allocated 170,391 lb (77 mt). Based on an observed catch per day trend in this fishery in recent years, an estimated 11,000 - 32,000 lb (5 - 15 mt) would be caught per day in 2004, resulting in a 5-to 15-day fixed season. In accordance with the Plan, the season would open on Thursday, May 13 and continue on Thursdays through Saturdays through the fixed dates. The fixed dates will be set in March 2004 after ODFW holds public meetings. After the fixed date season, potential additional fishing days for remaining quota in 2004 are structured differently than in previous years. For 2004, if additional quota remains after the fixed season, a second opening would be held for the spring fishery. The second opening would be on every other week on Friday and Saturday except that week(s) could be skipped to avoid adverse tidal conditions. For 2004, the weeks to be skipped due to adverse tidal conditions include June 4 - 5 and July 2 - 3. If a decision is made inseason by NMFS to allow fishing in the potential spring season, notice of an opening will be announced on the NMFS hotline, (206)526-6667 or (800)662-9825. No halibut fishing will be allowed on the reopening dates unless the date is announced on the NMFS hotline. The second spring season would continue until there is insufficient quota for an additional fishing day or until July 31, whichever occurs first.

The summer all-depth fishery would be allocated 56,797 lb (26 mt), and would open on Friday, August 6. For 2004, this fishery's season will be restructured from fixed season dates to being open every other week on Friday and Saturday, except that week(s) may be skipped for adverse tidal conditions. For 2004, no adverse tidal conditions occur during the August through October period. The summer all-depth fishery would continue until there is insufficient quota for an additional fishing day and the fishery is closed by the IPHC or until October 30, whichever occurs first. Any remaining quota would be added to the quota for the fishery inside 40 fathoms.

The final determination of the season dates will be based on the allowable harvest level, projected catch rates, and recommendations developed in a public workshop sponsored by ODFW after the 2004 TAC has been set by the IPHC. The daily bag limit would be the first halibut taken, per person, of 32 inches (81.3 cm) or greater in length.

Humbug Mountain, OR through California Subarea

This subarea would be allocated 7,798 lb (3.5 mt) at an Area 2A TAC of 1,300,000 lb (590 mt) in accordance with the Plan. The proposed 2004 sport season for this subarea would be the same as last year, with a May 1 opening and continuing 7 days per week, except that the season end date is extended until October 31. The daily bag limit would be the first halibut taken, per person, of 32 inches (81.3 cm) or greater in length.

Flexible Inseason Management Provisions in Area 2A

The flexible inseason management provisions in Area 2A have not changed since 2003, except that the NMFS telephone hotline will be maintained from May through October rather than May through September as mentioned in paragraph (3)(b) below. Section 25 of the annual halibut management measures published in the Federal Register and section (f)(5) of the Plan will read as follows:

(1) The Regional Administrator, NMFS Northwest Region, after consultation with the Chairman of the Pacific Fishery Management Council, the Commission Executive Director, and the Fisheries Director(s) of the affected state(s), or their designees, is authorized to modify regulations during the season after making the following determinations.

(a) The action is necessary to allow allocation objectives to be met.

(b) The action will not result in exceeding the catch limit for the area.

(c) If any of the sport fishery subareas north of Cape Falcon, OR are not projected to utilize their respective quotas by September 30, NMFS may take inseason action to transfer any projected unused quota to another Washington sport subarea.

(d) If any of the sport fishery subareas south of Leadbetter Point, WA are not projected to utilize their respective quotas by their season ending dates, NMFS may take inseason action to transfer any projected unused quota to another Oregon sport subarea.

(2) Flexible inseason management provisions include, but are not limited to, the following:

(a) Modification of sport fishing periods;

(b) Modification of sport fishing bag limits;

(c) Modification of sport fishing size limits;

(d) Modification of sport fishing days per calendar week; and

(e) Modification of subarea quotas north of Cape Falcon, OR.

(3) Notice procedures.

(a) Actions taken under this section will be published in the Federal Register.

(b) Actual notice of inseason management actions will be provided by a telephone hotline administered by the Northwest Region, NMFS, at 206-526-6667 or 800-662-9825 (May through October) and by U.S. Coast Guard broadcasts. These broadcasts are announced on Channel 16 VHF-FM and 2182 kHz at frequent intervals. The announcements designate the channel or frequency over which the notice to mariners will be immediately broadcast. Since provisions of these regulations may be altered by inseason actions, sport fishers should monitor either the telephone hotline or U.S. Coast Guard broadcasts for current information for the area in which they are fishing.

(4) Effective dates.

(a) Any action issued under this section is effective on the date specified in the publication or at the time that the action is filed for public inspection with the Office of the Federal Register, whichever is later.

(b) If time allows, NMFS will invite public comment prior to the effective date of any inseason action filed with the Federal Register. If the Regional Administrator determines, for good cause, that an inseason action must be filed without affording a prior opportunity for public comment, public comments will be received for a period of 15 days after publication of the action in the Federal Register.

(c) Any inseason action issued under this section will remain in effect until the stated expiration date or until rescinded, modified, or superseded. However, no inseason action has any effect beyond the end of the calendar year in which it is issued.

(5) Availability of data. The Regional Administrator will compile, in aggregate form, all data and other information relevant to the action being taken and will make them available for public review during normal office hours at the Northwest Regional Office, NMFS, Sustainable Fisheries Division, 7600 Sand Point Way NE, Seattle, WA.

Fishery Election in Area 2A

The fishery election process in Area 2A has not changed since 2003, but is republished here to provide opportunity for public comment. Section 26 of the annual halibut management measures published in the Federal Register will continue to read as follows:

(1) A vessel that fishes in Area 2A may participate in only one of the following three fisheries in Area 2A:

(a) The sport fishery under Section 24;

(b) The commercial directed fishery for halibut during the fishing period(s) established in Section 8 and/or the incidental retention of halibut during the primary sablefish fishery described at 50 CFR 660.323(a)(2); or

(c) The incidental catch fishery during the salmon troll fishery as authorized in Section 8.

(2) No person shall fish for halibut in the sport fishery in Area 2A under Section 24 from a vessel that has been used during the same calendar year for commercial halibut fishing in Area 2A or that has been issued a permit for the same calendar year for the commercial halibut fishery in Area 2A.

(3) No person shall fish for halibut in the directed halibut fishery during the fishing periods established in Section 8 and/or retain halibut incidentally taken in the primary sablefish fishery in Area 2A from a vessel that has been used during the same calendar year for the incidental catch fishery during the salmon troll fishery as authorized in Section 8.

(4) No person shall fish for halibut in the directed commercial halibut fishery and/or retain halibut incidentally taken in the primary sablefish fishery in Area 2A from a vessel that, during the same calendar year, has been used in the sport halibut fishery in Area 2A or that is licensed for the sport charter halibut fishery in Area 2A.

(5) No person shall retain halibut in the salmon troll fishery in Area 2A as authorized under Section 8 taken on a vessel that, during the same calendar year, has been used in the sport halibut fishery in Area 2A, or that is licensed for the sport charter halibut fishery in Area 2A.

(6) No person shall retain halibut in the salmon troll fishery in Area 2A as authorized under Section 8 taken on a vessel that, during the same calendar year, has been used in the directed commercial fishery during the fishing periods established in Section 8 and/or retain halibut incidentally taken in the primary sablefish fishery for Area 2A or that is licensed to participate in these commercial fisheries during the fishing periods established in Section 8 in Area 2A.

Area 2A Non-Treaty Commercial Fishery Closed Area

Similar to 2003, large closed areas will apply to commercial vessels operating in the directed non-treaty commercial fishery for halibut in Area 2A. For 2004, the eastern, inshore boundary of the closed area approximating the 27-fm (49-m) depth contour between 46°16' N. lat. and 40°10' N. lat. has been shifted slightly to a boundary line approximating the 30-fm (55-m)depth contour. For 2004, section 27 of the annual halibut management measures will read as follows:

Non-treaty commercial vessels operating in the directed commercial fishery for halibut in Area 2A are required to fish outside of a closed area, known as the Rockfish Conservation Area (RCA), that extends along the coast from the U.S./Canada border south to 40°10' N. lat. The closed area follows approximate depth contours. Coordinates for the specific boundaries that approximate the depth contours are as follows:

(1) Between the U.S./Canada border and 46°16' N. lat., the eastern boundary of the RCA extends to the shoreline.

(2) Between 46°16' N. lat. and 40°10' N. lat., the RCA is defined along an eastern, inshore boundary approximating 30 fm (55 m). The 30 fm depth contour used between 46°16' N. lat. and 40°10' N. lat. as an eastern boundary for the RCA is defined by straight lines connecting all of the following points in the order stated:

(1) 46°16.00' N. lat., 124°13.13' W. long.;

(2) 46°16.00' N. lat., 124°13.05' W. long.;

(3) 46°07.00' N. lat., 124°07.01' W. long.;

(4) 45°55.95' N. lat., 124°02.23' W. long.;

(5) 45°54.53' N. lat., 124°02.57' W. long.;

(6) 45°50.65' N. lat., 124°01.62' W. long.;

(7) 45°48.20' N. lat., 124°02.16' W. long.;

(8) 45°43.47' N. lat., 124°01.28' W. long.;

(9) 45°40.48' N. lat., 124°01.03' W. long.;

(10) 45°39.04' N. lat., 124°01.68' W. long.;

(11) 45°35.48' N. lat., 124°01.89' W. long.;

(12)45°29.81' N. lat., 124°02.45' W. long.;

(13)45°27.96' N. lat., 124°01.89' W. long.;

(14)45°27.22' N. lat., 124°02.67' W. long.;

(15)45°24.20' N. lat., 124°02.94' W. long.;

(16)45°20.60' N. lat., 124°01.74' W. long.;

(17)45°16.44' N. lat., 124°03.22' W. long.;

(18)45°13.63' N. lat., 124°02.70' W. long.;

(19)45°11.04' N. lat., 124°03.59' W. long.;

(20)45°08.55' N. lat., 124°03.47' W. long.;

(21)45°02.82' N. lat., 124°04.64' W. long.;

(22)44°58.06' N. lat., 124°05.03' W. long.;

(23)44°53.97' N. lat., 124°06.92' W. long.;

(24)44°48.89' N. lat., 124°07.04' W. long.;

(25)44°46.94' N. lat., 124°08.25' W. long.;

(26)44°42.72' N. lat., 124°08.98' W. long.;

(27)44°38.16' N. lat., 124°11.48' W. long.;

(28)44°33.38' N. lat., 124°11.54' W. long.;

(29)44°28.51' N. lat., 124°12.03' W. long.;

(30)44°27.65' N. lat., 124°12.56' W. long.;

(31)44°19.67' N. lat., 124°12.37' W. long.;

(32)44°10.79' N. lat., 124°12.22' W. long.;

(33)44°09.22' N. lat., 124°12.28' W. long.;

(34)44°00.22' N. lat., 124°12.80' W. long.;

(35)43°51.56' N. lat., 124°13.17' W. long.;

(36)43°44.26' N. lat., 124°14.50' W. long.;

(37)43°33.82' N. lat., 124°16.28' W. long.;

(38)43°28.66' N. lat., 124°18.72' W. long.;

(39)43°23.12' N. lat., 124°24.04' W. long.;

(40)43°20.49' N. lat., 124°25.90' W. long.;

(41)43°16.41' N. lat., 124°27.52' W. long.;

(42)43°14.23' N. lat., 124°29.28' W. long.;

(43)43°14.03' N. lat., 124°28.31' W. long.;

(44)43°11.92' N. lat., 124°28.26' W. long.;

(45)43°11.02' N. lat., 124°29.11' W. long.;

(46)43°10.13' N. lat., 124°29.15' W. long.;

(47)43°09.27' N. lat., 124°31.03' W. long.;

(48)43°07.73' N. lat., 124°30.92' W. long.;

(49)43°05.93' N. lat., 124°29.64' W. long.;

(50)43°01.59' N. lat., 124°30.64' W. long.;

(51)42°59.73' N. lat., 124°31.16' W. long.;

(52)42°53.75' N. lat., 124°36.09' W. long.;

(53)42°49.37' N. lat., 124°38.81' W. long.;

(54)42°46.42' N. lat., 124°37.69' W. long.;

(55)42°46.07' N. lat., 124°38.56' W. long.;

(56)42°45.29' N. lat., 124°37.95' W. long.;

(57)42°45.61' N. lat., 124°36.87' W. long.;

(58)42°44.28' N. lat., 124°33.64' W. long.;

(59)42°42.75' N. lat., 124°31.84' W. long.;

(60)42°40.04' N. lat., 124°29.19' W. long.;

(61)42°38.09' N. lat., 124°28.39' W. long.;

(62)42°36.72' N. lat., 124°27.54' W. long.;

(63)42°36.56' N. lat., 124°28.40' W. long.;

(64)42°35.76' N. lat., 124°28.79' W. long.;

(65)42°34.03' N. lat., 124°29.98' W. long.;

(66)42°34.19' N. lat., 124°30.58' W. long.;

(67)42°31.27' N. lat., 124°32.24' W. long.;

(68)42°27.07' N. lat., 124°32.53' W. long.;

(69)42°24.21' N. lat., 124°31.23' W. long.;

(70)42°20.47' N. lat., 124°28.87' W. long.;

(71)42°14.60' N. lat., 124°26.80' W. long.;

(72)42°10.90' N. lat., 124°24.57' W. long.;

(73)42°07.04' N. lat., 124°23.35' W. long.;

(74)42°02.16' N. lat., 124°22.59' W. long.;

(75)42°00.00' N. lat., 124°21.81' W. long.;

(76)41°59.95' N. lat., 124°21.56' W. long.;

(77)41°55.75' N. lat., 124°20.72' W. long.;

(78)41°50.93' N. lat., 124°23.76' W. long.;

(79)41°42.53' N. lat., 124°16.47' W. long.;

(80) 41°37.20' N. lat., 124°17.05' W. long.;

(81) 41°24.58' N. lat., 124°10.51' W. long.;

(82) 41°20.73' N. lat., 124°11.73' W. long.;

(83) 41°17.59' N. lat., 124°10.66' W. long.;

(84) 41°04.54' N. lat., 124°14.47' W. long.;

(85) 40°54.26' N. lat., 124°13.90' W. long.;

(86) 40°40.31' N. lat., 124°26.24' W. long.;

(87) 40°34.00' N. lat., 124°27.39' W. long.;

(88) 40°28.89' N. lat., 124°32.43' W. long.;

(89) 40°24.77' N. lat., 124°29.51' W. long.;

(90) 40°22.47' N. lat., 124°24.12' W. long.;

(91) 40°19.73' N. lat., 124°23.59' W. long.;

(92) 40°18.64' N. lat., 124°21.89' W. long.;

(93) 40°17.67' N. lat., 124°23.07' W. long.;

(94) 40°15.58' N. lat., 124°23.61' W. long.;

(95) 40°13.42' N. lat., 124°22.94' W. long.; and

(96) 40°10.00' N. lat., 124°16.65' W. long.;

(3) Between the U.S./Canada border and 40°10' N. lat., the RCA is defined along a western, offshore boundary approximating 100 fm (183 m). The 100-fm (183-m) depth contour used north of 40°10' N. lat. as a western boundary for the RCA is defined by straight lines connecting all of the following points in the order stated:

(1) 48°15.00' N. lat., 125°41.00' W. long.;

(2) 48°14.00' N. lat., 125°36.00' W. long.;

(3) 48°09.50' N. lat., 125°40.50' W. long.;

(4) 48°08.00' N. lat., 125°38.00' W. long.;

(5) 48°05.00' N. lat., 125°37.25' W. long.;

(6) 48°02.60' N. lat., 125°34.70' W. long.;

(7) 47°59.00' N. lat., 125°34.00' W. long.;

(8) 47°57.26' N. lat., 125°29.82' W. long.;

(9) 47°59.87' N. lat., 125°25.81' W. long.;

(10) 48°01.80' N. lat., 125°24.53' W. long.;

(11) 48°02.08' N. lat., 125°22.98' W. long.;

(12) 48°02.97' N. lat., 125°22.89' W. long.;

(13) 48°04.47' N. lat., 125°21.75' W. long.;

(14) 48°06.11' N. lat., 125°19.33' W. long.;

(15) 48°07.95' N. lat., 125°18.55' W. long.;

(16) 48°09.00' N. lat., 125°18.00' W. long.;

(17) 48°11.31' N. lat., 125°17.55' W. long.;

(18) 48°14.60' N. lat., 125°13.46' W. long.;

(19) 48°16.67' N. lat., 125°14.34' W. long.;

(20) 48°18.73' N. lat., 125°14.41' W. long.;

(21) 48°19.67' N. lat., 125°13.70' W. long.;

(22) 48°19.70' N. lat., 125°11.13' W. long.;

(23) 48°22.95' N. lat., 125°10.79' W. long.;

(24) 48°21.61' N. lat., 125°02.54' W. long.;

(25) 48°23.00' N. lat., 124°49.34' W. long.;

(26) 48°17.00' N. lat., 124°56.50' W. long.;

(27) 48°06.00' N. lat., 125°00.00' W. long.;

(28) 48°04.62' N. lat., 125°01.73' W. long.;

(29) 48°04.84' N. lat., 125°04.03' W. long.;

(30) 48°06.41' N. lat., 125°06.51' W. long.;

(31) 48°06.00' N. lat., 125°08.00' W. long.;

(32) 48°07.08' N. lat., 125°09.34' W. long.;

(33) 48°07.28' N. lat., 125°11.14' W. long.;

(34) 48°03.45' N. lat., 125°16.66' W. long.;

(35) 47°59.50' N. lat., 125°18.88' W. long.;

(36) 47°58.68' N. lat., 125°16.19' W. long.;

(37) 47°56.62' N. lat., 125°13.50' W. long.;

(38) 47°53.71' N. lat., 125°11.96' W. long.;

(39) 47°51.70' N. lat., 125°09.38' W. long.;

(40) 47°49.95' N. lat., 125°06.07' W. long.;

(41) 47°49.00' N. lat., 125°03.00' W. long.;

(42) 47°46.95' N. lat., 125°04.00' W. long.;

(43) 47°46.58' N. lat., 125°03.15' W. long.;

(44) 47°44.07' N. lat., 125°04.28' W. long.;

(45) 47°43.32' N. lat., 125°04.41' W. long.;

(46) 47°40.95' N. lat., 125°04.14' W. long.;

(47) 47°39.58' N. lat., 125°04.97' W. long.;

(48) 47°36.23' N. lat., 125°02.77' W. long.;

(49) 47°34.28' N. lat., 124°58.66' W. long.;

(50) 47°32.17' N. lat., 124°57.77' W. long.;

(51) 47°30.27' N. lat., 124°56.16' W. long.;

(52) 47°30.60' N. lat., 124°54.80' W. long.;

(53) 47°29.26' N. lat., 124°52.21' W. long.;

(54) 47°28.21' N. lat., 124°50.65' W. long.;

(55) 47°27.38' N. lat., 124°49.34' W. long.;

(56) 47°25.61' N. lat., 124°48.26' W. long.;

(57) 47°23.54' N. lat., 124°46.42' W. long.;

(58) 47°20.64' N. lat., 124°45.91' W. long.;

(59) 47°17.99' N. lat., 124°45.59' W. long.;

(60) 47°18.20' N. lat., 124°49.12' W. long.;

(61) 47°15.01' N. lat., 124°51.09' W. long.;

(62) 47°12.61' N. lat., 124°54.89' W. long.;

(63) 47°08.22' N. lat., 124°56.53' W. long.;

(64) 47°08.50' N. lat., 124°57.74' W. long.;

(65) 47°01.92' N. lat., 124°54.95' W. long.;

(66) 47°01.14' N. lat., 124°59.35' W. long.;

(67) 46°58.48' N. lat., 124°57.81' W. long.;

(68) 46°56.79' N. lat., 124°56.03' W. long.;

(69) 46°58.01' N. lat., 124°55.09' W. long.;

(70) 46°55.07' N. lat., 124°54.14' W. long.;

(71) 46°59.60' N. lat., 124°49.79' W. long.;

(72) 46°58.72' N. lat., 124°48.78' W. long.;

(73) 46°54.45' N. lat., 124°48.36' W. long.;

(74) 46°53.99' N. lat., 124°49.95' W. long.;

(75) 46°54.38' N. lat., 124°52.73' W. long.;

(76) 46°52.38' N. lat., 124°52.02' W. long.;

(77) 46°48.93' N. lat., 124°49.17' W. long.;

(78) 46°41.50' N. lat., 124°43.00' W. long.;

(79) 46°34.50' N. lat., 124°28.50' W. long.;

(80) 46°29.00' N. lat., 124°30.00' W. long.;

(81) 46°20.00' N. lat., 124°36.50' W. long.;

(82) 46°18.00' N. lat., 124°38.00' W. long.;

(83) 46°17.52' N. lat., 124°35.35' W. long.;

(84) 46°17.00' N. lat., 124°22.50' W. long.;

(85)46°16.00' N. lat., 124°20.62' W. long.;

(86) 46°13.52' N. lat., 124°25.49' W. long.;

(87) 46°12.17' N. lat., 124°30.75' W. long.;

(88)46°10.63' N. lat., 124°37.95' W. long.;

(89)46°09.29' N. lat., 124°39.01' W. long.;

(90)46°02.40' N. lat., 124°40.37' W. long.;

(91)45°56.45' N. lat., 124°38.00' W. long.;

(92)45°51.92' N. lat., 124°38.49' W. long.;

(93)45°47.19' N. lat., 124°35.58' W. long.;

(94)45°46.41' N. lat., 124°32.36' W. long.;

(95)45°41.75' N. lat., 124°28.12' W. long.;

(96)45°36.96' N. lat., 124°24.48' W. long.;

(97)45°31.84' N. lat., 124°22.04' W. long.;

(98)45°27.10' N. lat., 124°21.74' W. long.;

(99)45°18.14' N. lat., 124°17.59' W. long.;

(100) 45°11.08' N. lat., 124°16.97' W. long.;

(101) 45°04.38' N. lat., 124°18.36' W. long.;

(102) 44°58.05' N. lat., 124°21.58' W. long.;

(103) 44°47.67' N. lat., 124°31.41' W. long.;

(104) 44°44.55' N. lat., 124°33.58' W. long.;

(105) 44°39.88' N. lat., 124°35.01' W. long.;

(106) 44°32.90' N. lat., 124°36.81' W. long.;

(107) 44°30.33' N. lat., 124°38.56' W. long.;

(108) 44°30.04' N. lat., 124°42.31' W. long.;

(109) 44°26.84' N. lat., 124°44.91' W. long.;

(110) 44°17.99' N. lat., 124°51.03' W. long.;

(111) 44°13.68' N. lat., 124°56.38' W. long.;

(112) 43°56.67' N. lat., 124°55.45' W. long.;

(113) 43°56.47' N. lat., 124°34.61' W. long.;

(114) 43°42.73' N. lat., 124°32.41' W. long.;

(115) 43°30.93' N. lat., 124°34.43' W. long.;

(116) 43°17.45' N. lat., 124°41.16' W. long.;

(117) 43°07.04' N. lat., 124°41.25' W. long.;

(118) 43°03.45' N. lat., 124°44.36' W. long.;

(119) 43°03.90' N. lat., 124°50.81' W. long.;

(120) 42°55.70' N. lat., 124°52.79' W. long.;

(121) 42°54.12' N. lat., 124°47.36' W. long.;

(122) 42°44.00' N. lat., 124°42.38' W. long.;

(123) 42°38.23' N. lat., 124°41.25' W. long.;

(124) 42°33.03' N. lat., 124°42.38' W. long.;

(125) 42°31.89' N. lat., 124°42.04' W. long.;

(126) 42°30.09' N. lat., 124°42.67' W. long.;

(127) 42°28.28' N. lat., 124°47.08' W. long.;

(128) 42°25.22' N. lat., 124°43.51' W. long.;

(129) 42°19.23' N. lat., 124°37.92' W. long.;

(130) 42°16.29' N. lat., 124°36.11' W. long.;

(131) 42°05.66' N. lat., 124°34.92' W. long.;

(132) 42°00.00' N. lat., 124°35.27' W. long.;

(133) 42°00.00' N. lat., 124°35.26' W. long.;

(134) 41°47.04' N. lat., 124°27.64' W. long.;

(135) 41°32.92' N. lat., 124°28.79' W. long.;

(136) 41°24.17' N. lat., 124°28.46' W. long.;

(137) 41°10.12' N. lat., 124°20.50' W. long.;

(138) 40°51.41' N. lat., 124°24.38' W. long.;

(139) 40°43.71' N. lat., 124°29.89' W. long.;

(140) 40°40.14' N. lat., 124°30.90' W. long.;

(141) 40°37.35' N. lat., 124°29.05' W. long.;

(142) 40°34.76' N. lat., 124°29.82' W. long.;

(143) 40°36.78' N. lat., 124°37.06' W. long.;

(144) 40°32.44' N. lat., 124°39.58' W. long.;

(145) 40°24.82' N. lat., 124°35.12' W. long.;

(146) 40°23.30' N. lat., 124°31.60' W. long.;

(147) 40°23.52' N. lat., 124°28.78' W. long.;

(148) 40°22.43' N. lat., 124°25.00' W. long.;

(149) 40°21.72' N. lat., 124°24.94' W. long.;

(150) 40°21.87' N. lat., 124°27.96' W. long.;

(151) 40°21.40' N. lat., 124°28.74' W. long.;

(152) 40°19.68' N. lat., 124°28.49' W. long.;

(153) 40°17.73' N. lat., 124°25.43' W. long.;

(154) 40°18.37' N. lat., 124°23.35' W. long.;

(155) 40°15.75' N. lat., 124°26.05' W. long.;

(156) 40°16.75' N. lat., 124°33.71' W. long.;

(157) 40°16.29' N. lat., 124°34.36' W. long.;

(158) 40°10.00' N. lat., 124°21.12' W. long.; and

(159) 40°10.00' N. lat., 124°21.50' W. long.

NMFS requests public comments on the Pacific Council's recommended modifications to the Plan and the proposed domestic fishing regulations. The Area 2A TAC will be set by the IPHC at its annual meeting on January 20-23, 2004, in Juneau, Alaska. NMFS requests comments on the proposed changes to the Plan and domestic fishing regulations after the annual meeting, so that the public will have the opportunity to consider the final Area 2A TAC before submitting comments on the proposed changes. The States of Washington and Oregon will conduct public workshops shortly after the IPHC meeting to obtain input on the sport season dates. After the Area 2A TAC is known and after NMFS reviews public comments and comments from the states, NMFS will issue a final rule for the Area 2A Pacific halibut sport fisheries concurrent with the IPHC regulations for the 2004 Pacific halibut fisheries.

Revision to Halibut Regulations

As part of this proposed rule, NMFS is proposing a revision to the Federal halibut regulations at 50 CFR 300.63, which authorizes vessels with IPHC licenses that are operating in the primary sablefish longline fishery north of Pt. Chehalis, WA to land halibut taken incidentally in that fishery. The revision would alter the regulations to state that, in addition to the prohibition on possessing and landing halibut south of Pt. Chehalis, WA, no halibut taken in this fishery may be purchased south of Pt. Chehalis, WA. This is a minor clarification and has no effect on the environment because it does not change the harvest opportunities for Pacific halibut, but simply clarifies for enforcement purposes that halibut cannot be purchased south of Pt. Chehalis.

This clarification also has no effect on the economy because the prohibition currently does not allow halibut from outside this area to be possessed or landed within this area. Therefore, the prohibition also intended to prohibit purchasing within this area of halibut caught outside the area (i.e., purchasing is not legal if it is illegal for an individual to land the fish in this area). However, the regulation did not explicitly prohibit purchasing, and is now revised to do so. There should be no net change in the selling and purchasing of halibut in the area. This is not a change from what was originally intended with this prohibition and simply clarifies regulatory language for enforcement purposes.

Classification

NMFS has prepared an RIR/IRFA on the proposed changes to the Plan and annual domestic Area 2A halibut management measures. Copies of this document are available from NMFS (see ADDRESSES).

NMFS prepared an IRFA that describes the economic impact this proposed rule, if adopted, would have on small entities. A description of the action, why it is being considered, and the legal basis for this action are contained at the beginning of this section in the preamble and in the SUMMARY section of the preamble. The IRFA is available from NMFS (see ADDRESSES). A summary of the IRFA follows:

A fish-harvesting business is considered a “small” business by the Small Business Administration if it has annual receipts not in excess of $3.5 million. For related fish-processing businesses, a small business is one that employs 500 or fewer persons. For marinas and charter/party boats, a small business is one with annual receipts not in excess of $6.0 million. All of the businesses that would be affected by this action are considered small businesses under SBA guidance.

The proposed changes to the Area 2A Plan, which allocates the catch of Pacific halibut among users in Washington, Oregon and California, would: (1) provide more flexibility for Washington inseason sport fishery management; (2) revise the public announcement process for the Puget Sound sport fishery (Washington's inside waters subarea); (3) revise season dates for the Washington North Coast and South Coast sport fisheries; (4) combine the Oregon North Central and South Central subareas; (5) revise the “additional fishing days” season structure for Oregon's spring and summer sport fisheries; (6) extend the season closing date for Oregon/California sport fisheries South of Humbug Mountain subarea; and (7) change the depth restriction for Oregon's nearshore sport fishery. The proposed changes to annual domestic Area 2A halibut management measures would revise the eastern, inshore boundary of an area closed to non-treaty commercial halibut fishing. The flexible inseason management provisions and the fishery election process in Area 2A have essentially not changed since 2003, but are included in the proposed rule to provide opportunity for public notice and comment. One minor change in the flexible inseason management provisions for Area 2A is that the NMFS telephone hotline will be maintained from May through October rather than May through September to cover the duration of the commercial and sport halibut seasons in Area 2A.

The purpose of revising the public announcement process for the Puget Sound fishery is to streamline the management process. The Puget Sound fishery (season structure, opening dates, etc) is to remain in place for a few years to evaluate their effectiveness. The public will continue to have an opportunity to comment on the halibut fisheries in the state-run public comment process (email and mail forums and public meetings, as needed) and in the Federal notice-and-comment process. Revising the season dates in Washington's North Coast subarea are intended to move the fishery later in May when the weather tends to be more favorable, to increase the likelihood of the fishery being open on Memorial Day weekend, and to allow for flexibility in picking June openings for days when tidal conditions are more favorable. Revising the season dates in Washington's South Coast subarea are intended to add more fishing opportunity for halibut when the salmon season is open. Combining the Oregon Central Coast subareas is intended to match how the fishery is currently managed, for all practical purposes. Revising the “additional fishing days” season structure in the Oregon's Central Coast fisheries is intended to allow fishery participants to harvest the available quota in this area. Extending the season end date for the South of Humbug Mountain, OR subarea is intended to match the season end date for this subarea with the season end dates for the other Oregon subareas. Changing the depth restrictions for Oregon's Central Coast nearshore fishery is intended to better mesh halibut regulations with groundfish regulations to reduce angler confusion and ease enforcement. Other proposed changes to the Plan are intended to provide managers with more flexibility for adjusting fisheries inseason in order to ensure the available quota is taken. The purpose of revising the eastern, inshore boundary of an area closed to non-treaty commercial halibut fishing in the annual domestic Area 2A halibut management measures is to align with the revised boundary for the groundfish fishery in this area. This revised boundary, which only moved 3 fm, is designed to better align with the occurrence of overfished rockfish species, such as yelloweye and canary rockfish, that may be caught with longline gear used in the commercial halibut fishery.

The proposed changes to the Plan and annual domestic Area 2A halibut management measures will affect charter fishing operations, anglers and commercial halibut fishermen who operate off Washington and Oregon. In 2003, IPHC issued 127 licenses to the charterboat fleet, 260 licenses to the commercial directed fishery which includes licenses for vessels retaining halibut caught incidentally to the primary sablefish fishery, and 323 licenses to salmon troll vessels to retain incidentally caught halibut. For 2004, the proposed changes to the Plan and annual domestic Area 2A halibut management measures are non-substantive. These changes are within the Plan's management objective of allocating the TAC in Area 2A, while also allowing commercial, recreational, and tribal fisheries to target halibut in the manner most appropriate for the user's needs within that fishery.

These changes to the Plan and annual domestic Area 2A halibut management measures are authorized under the Pacific Halibut Act and implementing regulations at 50 CFR 300.60-65.

The proposed changes to the Plan and annual domestic Area 2A halibut management measures are expected to result in either no impact at all, or a modest increase in fishing opportunity for commercial and sport halibut fishermen and operators. The proposed sport management measures for 2004 implement the Plan by managing the recreational fishery to meet the differing fishery needs of the various areas along the coast according to the Plan's objectives. The proposed non-treaty commercial management measures for 2004 will allow the fishery access to the commercial portion of the Area 2A TAC while protecting overfished rockfish species that co-occur with halibut. The measures for 2004 will be very similar to last year's management measures. No additional alternatives from status quo were analyzed. There were no significant alternatives that could have similarly improved angler enjoyment of and participation in the fisheries while simultaneously protecting halibut and co-occurring groundfish species from overharvest. These changes do not include any reporting or recordkeeping requirements. These changes will also not duplicate, overlap or conflict with other laws or regulations.

This action has been determined to be not significant for purposes of Executive Order 12866.

Pursuant to Executive Order 13175, the Secretary of Commerce recognizes the sovereign status and co-manager role of Indian tribes over shared Federal and tribal fishery resources. At section 302(b)(5), the Magnuson-Stevens Fishery Conservation and Management Act reserves a seat on the Pacific Council for a representative of an Indian tribe with federally recognized fishing rights from California, Oregon, Washington, or Idaho.

The U.S. government formally recognizes that the 13 Washington Tribes have treaty rights to fish for Pacific halibut. In general terms, the quantification of those rights is 50 percent of the harvestable surplus of Pacific halibut available in the tribes' usual and accustomed (U and A) fishing areas (described at 50 CFR 660.324). Each of the treaty tribes has the discretion to administer their fisheries and to establish their own policies to achieve program objectives. Accordingly, tribal allocations and regulations, including the proposed changes to the Plan, have been developed in consultation with the affected tribe(s) and, insofar as possible, with tribal consensus.

Dated: February 17, 2004.
Rebecca Lent,
Deputy Assistant Administrator for Regulatory Programs, National Marine Fisheries Service.

For the reasons set out in the preamble, 50 CFR part 300 is proposed to be amended as follows:

PART 300—INTERNATIONAL FISHERIES REGULATIONS,

Subpart E—Pacific Halibut Fisheries

1. The authority citation for 50 CFR part 300, subpart E continues to read as follows:

Authority: 16 U.S.C. 773-773k.

2. In § 300.63, paragraph (b)(3)(ii) is revised to read as follows:

§ 300.63 Catch sharing plans and domestic management measures in Area 2A.

(b) * * *

(3) * * *

(ii) It is unlawful for any person to possess, land or purchase halibut south of 46°53'18'' N. lat. that were taken and retained as incidental catch authorized by this section in the directed longline sablefish fishery.

[FR Doc. 04-3753 Filed 2-20-04; 8:45 am]

BILLING CODE 3510-22-S